DEPARTMENT OF THE INTERIOR

National Park Service

[N6319; NPS-WASO-NAGPRA-NPS0040507; PPWOCRADN0-PCU00RP14.R50000]

Notice of Inventory Completion Amendment: U.S. Department of the Interior, Bureau of Land Management, Arizona State Office, Phoenix, AZ

AGENCY: National Park Service, Interior.

ACTION: Notice; amendment.

SUMMARY: In accordance with the Native American Graves Protection and Repatriation Act (NAGPRA), the U.S. Department of the Interior, Bureau of Land Management (BLM), Arizona State Office has amended a notice of inventory completion published in the Federal Register on May 16, 2025. This notice amends the Indian Tribes or Native Hawaiian organizations with cultural affiliation.

DATES: Repatriation of the human remains may occur on or after August 27, 2025.

ADDRESSES: Send written requests for repatriation of the human remains to Raymond Suazo, Arizona State Director, BLM Arizona State Office, One North Central Avenue, Suite 800, Phoenix, AZ 85004, email BLM_AZ_ASOWEB@blm.gov.

SUPPLEMENTARY INFORMATION: This notice is published as part of the National Park Service's administrative responsibilities under NAGPRA. The determinations in this notice are the sole responsibility of the BLM, and additional information on the determinations in this notice, including the results of consultation, can be found in its inventory or related records. The National Park Service is not responsible for the determinations in this notice.

Amendment

This notice amends the determination of cultural affiliation published in a notice of inventory completion in the Federal Register (90 FR 21064, May 16, 2025). Repatriation of the human remains in the original notice of inventory completion has not occurred.

Determinations

The BLM has determined that:

• There is a connection between the human remains described in the original notice and the Ak-Chin Indian Community; Gila River Indian Community of the Gila River Indian Reservation, Arizona; Hopi Tribe of Arizona; Pascua Yaqua Tribe of Arizona; Salt River Pima-Maricopa Indian Community of the Salt River Reservation, Arizona; and the Tohono O'odham Nation of Arizona.

Requests for Repatriation

Written requests for repatriation of the human remains in the original notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in the original notice to a requestor may occur on or after August 27, 2025. If competing requests for repatriation are received, the BLM must determine the most appropriate requestor prior to repatriation. Requests for joint repatriation of the human remains are considered a single request and not competing requests. The BLM is responsible for sending a copy of this notice to the Indian Tribes and Native Hawaiian organizations identified in this notice and any other consulting parties.

Authority: Native American Graves Protection and Repatriation Act, 25 U.S.C. 3003, and the implementing regulations, 43 CFR 10.10.

Dated: July 1, 2025.
Melanie O'Brien,
Manager, National NAGPRA Program.

[FR Doc. 2025-14151 Filed 7-25-25; 8:45 am]

BILLING CODE 4312-52-P